DEPARTMENT OF THE INTERIOR

Bureau of Land Management

[OR090-5882-PH; GP2-0382]

Notice of Meeting

AGENCY: Bureau of Land Management, Interior.

ACTION: Notice of meeting.

SUMMARY: The Eugene Resource Advisory Committee will hold a meeting in Eugene, Oregon. Agenda topics include review of last meeting minutes, end of year evaluation and discussion of future projects. The meeting is being held under the authority of Public Law 106-393.

DATES: November 7, 2002. The meeting will begin at 9 am. A public comment period will be held during the meeting at 11:30 am. The meeting is expected to adjourn by 4 pm.

ADDRESSES: The meeting will be held at the U.S. Bureau of Land Management office, 2890 Chad Drive, Eugene, Oregon, 97408.

FOR FURTHER INFORMATION CONTACT: Wayne Elliott, Eugene District Office, Eugene, Oregon, (541) 683-6989.

Dated: September 4, 2002.
Wayne Elliott,
Natural Resource Advisor.

[FR Doc. 02-23429 Filed 9-13-02; 8:45 am]

BILLING CODE 4310-33-M